ENVIRONMENTAL PROTECTION AGENCY

[EPA-HQ-OAR-2022-0072; FRL-10232-01-OMS]

Information Collection Request Submitted to OMB for Review and Approval; Comment Request; NSPS/NESHAP for Wool Fiberglass Insulation Manufacturing Plants (Renewal)

AGENCY: Environmental Protection Agency (EPA).

ACTION: Notice.

SUMMARY: The Environmental Protection Agency (EPA) has submitted an information collection request (ICR), NSPS/NESHAP for Wool Fiberglass Insulation Manufacturing Plants (EPA ICR Number 1160.15, OMB Control Number 2060-0114), to the Office of Management and Budget (OMB) for review and approval in accordance with the Paperwork Reduction Act. This is a proposed extension of the ICR, which is currently approved through November 30, 2022. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 24, 2022.

ADDRESSES: Submit your comments, referencing Docket ID Number EPA-HQ-OAR-2022-0072, online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Owners and operators of affected facilities are required to comply with reporting and record keeping requirements for the General Provisions (40 CFR part 63, subpart A and 40 CFR part 60, subpart A), as well as for the specific requirements at 40 CFR part 63, subpart NNN and 40 CFR part 60 Subpart PPP. This includes submitting initial notification reports, performance tests and periodic reports and results, and maintaining records of the occurrence and duration of any startup, shutdown, or malfunction in the operation of an affected facility, or any period during which the monitoring system is inoperative. These reports are used by EPA to determine compliance with these standards. This information is being collected to assure compliance with 40 CFR part 60, subpart PPP.

Form Numbers: None.

Respondents/affected entities: Wool fiberglass insulation manufacturing plants.

Respondent's obligation to respond: Mandatory (40 CFR part 60, subpart PPP and 40 CFR part 63, subpart NNN).

Estimated number of respondents: 38 (total).

Frequency of response: Semiannual.

Total estimated burden: 5,580 hours (per year) (total). Burden is defined at 5 CFR 1320.3(b).

Total estimated cost: $1,250,000 (per year), which includes $585,445 in annualized capital/startup and/or operation & maintenance costs.

Changes in the Estimates: There is a net adjustment decrease in burden from the most-recently approved ICR due to more accurate estimates of existing sources. The industry trade organization North American Insulation Manufacturers Association (NAIMA) commented in response to consultation that an estimate of five facilities subject to 40 CFR part 63, subpart NNN is more accurate than the previous estimate, while the previous estimate of facilities subject to subpart PPP is increasing by one due to construction of a new facility. The labor cost per facility has increased due to updated labor rates from the most-recent Bureau of Labor Statistics report (September 2021).

There is a net adjustment decrease in the operation and maintenance (O&M) costs as calculated in section 6(b)(iii) compared with the costs in the previous ICR, due to the decreased number of respondents subject to Subpart NNN based on the information provided by NAIMA. This offsets the increase in capital and O&M costs due to the addition of one facility subject to Subpart PPP.

This ICR also includes an adjustment decrease in the annual estimated hours to familiarize with regulatory requirements (Table 1b) to align with the typical time required for existing respondents to refamiliarize themselves with the NESHAP regulations each year.

Courtney Kerwin,
Director, Regulatory Support Division.

[FR Doc. 2022-20585 Filed 9-22-22; 8:45 am]

BILLING CODE 6560-50-P